DEPARTMENT OF HOMELAND SECURITY

Federal Emergency Management Agency

44 CFR Part 67

[Docket No. FEMA-D-7680]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Lee County, Florida, and Incorporated Areas
Bayshore Creek | Approximately 600 feet downstream of Jamestown Circle | +8 | +7 | Lee County (Unincorporated Areas).
| At Nalle Grade Road | None | +23 |
Bedman Creek/Dog Canal | Approximately 700 feet downstream of Palm Beach Boulevard | +7 | +8 | Lee County (Unincorporated Areas).
| Approximately 2.6 miles upstream of Weir S-D-2 | None | +26 |
Billy Creek | At upstream side of Veronica Shoemaker Boulevard | +7 | +8 | Lee County (Unincorporated Areas), City of Fort Myers.
| Approximately 0.4 mile upstream of Oritz Circle | None | +17 |
Caloosahatchee River | At intersection of Cohn Road and Marsh Cove Lane | +7 | +8 | Lee County (Unincorporated Areas), City of Cape Coral, City of Fort Myers.
| Approximately 0.4 mile south of intersection of Tarpon Estates Boulevard and Tarpon Estates Court | +10 | +11 |
Carrell Canal | Approximately 900 feet upstream of confluence with Caloosahatchee River | None | +7 | City of Fort Myers.
| Approximately 375 feet upstream of Evans Avenue | None | +13 |
Chapel Branch Creek | Approximately 600 feet downstream of Samville Road | +7 | +8 | Lee County (Unincorporated Areas).
| Approximately 650 feet upstream of Rich Road | None | +20 |
Charlotte Harbor | At intersection of Kismet Parkway and Burnt Stove Road | +7 | +6 | Lee County (Unincorporated Areas), City of Cape Coral.
| Approximately 0.7 mile west from Old Burnt Stove Road and 48th Terrace intersection (follow Yucca Creek) | +11 | +10 | Lee County (Unincorporated Areas).
Cypress Creek | Approximately 800 feet downstream of North River Road | +7 | +8 | Lee County (Unincorporated Areas).
| Approximately 3.0 miles upstream of North River Road | None | +18 |
Daughtrey Creek | Approximately 0.4 mile downstream of Bayshore Road | +8 | +7 | Lee County (Unincorporated Areas).
| Approximately 0.9 mile upstream of Nalle Grade Road | None | +24 |
East Branch | At downstream side of Bayshore Road | +8 | +7 | Lee County (Unincorporated Areas).
Daughtrey Creek | At Nalle Grade Road | None | +23 |
East Branch | Approximately 0.2 mile downstream of Pine Island Road | None | +7 | Lee County (Unincorporated Areas), City of Cape Coral.
Yellow Fever Creek | At upstream side of U.S. 41 Culvert | +17 | +18
Estero Bay | Approximately 0.3 mile west of intersection of Baybridge Boulevard and Bridge Run Court | +10 | +11 | Lee County (Unincorporated Areas), City of Bonita Springs, Town of Fort Myers Beach.
| Approximately 0.5 mile west of intersection of Redfish Street and Spring Creek Drive | +13 | +15 |
Estero River | Approximately 0.4 mile downstream of South Tamiami Trail | +10 | +11 | Lee County (Unincorporated Areas).
| Approximately 0.4 mile upstream of I-75 | None | +21 |
Fichter Creek | Approximately 1,000 feet upstream of the confluence with Caloosahatchee River | None | +7 | Lee County (Unincorporated Areas).
| Approximately 50 feet upstream of Fichters Creek Lane | None | +15 |
Ford Street Canal | At upstream side of Gallee Way | None | +9 | City of Fort Myers.
| Approximately 200 feet downstream of Hanson Street | None | +18 |
Gulf of Mexico | Approximately 1,000 feet west of the Pelican Pass and Charlotte Harbor Mouth (Cayo Costa Island) | +7 | +8 | Lee County (Unincorporated Areas), City of Bonita Springs, City of Sanibel, Town of Fort Myers Beach.
| Approximately 500 feet west of intersection of Estero Boulevard and Hickory Boulevard | +18 | +20
Halfway Creek | Approximately 0.6 mile downstream of U.S. Route 41 | +10 | +11 | Lee County (Unincorporated Areas).
| Approximately 100 feet upstream of Railroad | None | +16
Halls Creek | Approximately 500 feet upstream of North River Road | None | +7 | Lee County (Unincorporated Areas).
| Approximately 0.6 mile upstream of North River Road | None | +13
Hancock Creek | Approximately 100 feet upstream of Barrett Road | None | +7 | Lee County (Unincorporated Areas), City of Cape Coral.
| Approximately 100 feet upstream of Diplomat Parkway | None | +11
Hickey Creek | Approximately 1,000 feet upstream of Palm Beach Boulevard | +7 | +8 | Lee County (Unincorporated Areas).
| At the confluence of Hickey Creek Drainageway | +9 | +10
Hickey Creek | At confluence of Hickey Creek | +9 | +10 | Lee County (Unincorporated Areas).
(upstream of Hickey Creek Drainageway) | Approximately 0.8 mile downstream of Bateman Road | +11 | +10
Hickey Creek Drainageway | At the confluence with Hickey Creek | +9 | +10 | Lee County (Unincorporated Areas).
| Approximately 1.1 miles upstream of 17th Street | None | +22
Kickapoo Creek | At upstream side of Bayshore Road | +7 | +8 | Lee County (Unincorporated Areas).
| Approximately 0.2 mile upstream of Old Bayshore Road | +12 | +8
L-3 Canal | At the confluence with L Canal | None | +8 | Lee County (Unincorporated Areas), City of Fort Myers.
| Approximately 0.4 mile upstream of Fowler Street | None | +14
Leitner Creek | Approximately 800 feet upstream of Terry Street | +10 | +12 | City of Bonita Springs.
| Approximately 0.3 mile upstream of I-75 | None | +14
Manuels Branch | At upstream side of McGregor Boulevard | None | +7 | City of Fort Myers.
| Approximately 975 feet upstream of Evans Avenue | None | +12
Marsh Point Creek | At upstream side of Bayshore Road | +10 | +7 | Lee County (Unincorporated Areas).
| At upstream side of Tucker Lane | +16 | +15
Matlacha Pass | Approximately 0.5 mile east of intersection of Game Bird Lane and Ficus Tree Lane | +7 | +6 | Lee County (Unincorporated Areas), City of Cape Coral.
| Approximately 0.7 mile east of intersection of Tropical Point Drive and Cove Street | +8 | +11
Mullock Creek | Approximately 300 feet downstream of Constitution Circle | None | +10 | Lee County (Unincorporated Areas).
| At Oriole Road | None | +15
Mullock Creek Tributary | Approximately 0.2 mile downstream of South Tamiami Trail | +10 | +11 | Lee County (Unincorporated Areas).
| Approximately 150 feet upstream of South Tamiami Trail | None | +13
North Colonial Waterway | At the confluence with Ten Mile Canal | None | +17 | City of Fort Myers.
| Approximately 400 feet upstream of Milan Drive | None | +17
Oak Creek | At Imperial Street | +10 | +11 | City of Bonita Springs.
| Approximately 1,000 feet upstream of Imperial Street | +10 | +11
Orange River | Approximately 2.5 miles upstream of Palm Beach Boulevard | +7 | +8 | Lee County (Unincorporated Areas).
| Approximately 2.5 miles upstream of Buckingham Road | None | +17
Owl Creek | Approximately 1,000 feet downstream of North River Road | +8 | +7 | Lee County (Unincorporated Areas).
| Approximately 0.2 mile upstream of Shirley Lane | None | +20
Palm Creek | At downstream side of Bayshore Road | +8 | +7 | Lee County (Unincorporated Areas).
| Approximately 50 feet downstream of Sharon Drive | None | +22
Pine Island Sound | Approximately 500 feet west of intersection of State Route 767 and Helen Road | +7 | +6 | Lee County (Unincorporated Areas), City of Sanibel.
| At intersection of Seair Lane and Sol Vista Drive on Captiva Island | +10 | +12
Popash Creek | Approximately 0.3 mile upstream of Bayshore Road | +8 | +7 | Lee County (Unincorporated Areas).
| At County boundary | +26 | +25
Powell Bypass | At Weir Valencia | +14 | +12 | Lee County (Unincorporated Areas).
| Approximately 2.0 miles upstream of Mellow Drive | None | +20
Powell Creek | Approximately 0.3 mile upstream of Brooks Road | +8 | +7 | Lee County (Unincorporated Areas).
| At Weir Valencia | +14 | +12
Powell Creek | At confluence with Powell Creek | +11 | +7 | Lee County (Unincorporated Areas).
Tributary No. 1 | Approximately 0.4 mile upstream of the confluence with Powell Creek | +11 | +10
San Carlos Bay | At intersection of Sanibel Boulevard and Bay View Avenue | +8 | +7 | Lee County (Unincorporated Areas), City of Cape Coral, City of Sanibel, Town of Fort Myers Beach.
| Approximately 500 feet south of intersection of Punta Rassa Road and McGregor Boulevard | +17 | +20
Six Mile Cypress | At confluence with Ten Mile Canal | None | +13 | Lee County (Unincorporated Areas), City of Fort Myers.
Slough | At State Route 82 | None | +22
South Branch | At confluence with Estero River | None | +14 | Lee County (Unincorporated Areas).
| At upstream side of I-75 | None | +17
Spanish Canal | At confluence with Spanish Creek | None | +13 | Lee County (Unincorporated Areas).
| Approximately 0.8 mile upstream of confluence with Spanish Creek | None | +18
Spanish Creek | Approximately 900 feet upstream of confluence with Caloosahatchee River | +7 | +8 | Lee County (Unincorporated Areas).
| Approximately 0.2 mile upstream of Persimmon Ridge Road | None | +19
Spring Creek | Approximately 500 feet downstream of Railroad | +10 | +11 | City of Bonita Springs.
| Approximately 0.4 mile upstream of Railroad | None | +13
Stricklin Gully | At confluence with Trout Creek/Curry Lake Canal | None | +13 | Lee County (Unincorporated Areas).
| Approximately 1.4 miles upstream of confluence with Trout Creek/Curry Lake Canal | None | +18
Stroud Creek | Approximately 100 feet upstream of Bayshore Road | +8 | +7 | Lee County (Unincorporated Areas).
| Approximately 0.2 mile upstream of St. Paul Road | None | +23
Telegraph Creek | Approximately 1,000 feet upstream of confluence with Caloosahatchee River | +7 | +8 | Lee County (Unincorporated Areas).
| Approximately 1.5 miles upstream of Telegraph Creek Lane | None | +18
Ten Mile Canal | Approximately 1,500 feet downstream of Briarcliff Road | +10 | +11 | Lee County (Unincorporated Areas), City of Fort Myers.
| At Hanson Street | None | +17
Trout Creek/Curry Lake Canal | At downstream side of North River Road | +7 | +8 | Lee County (Unincorporated Areas).
| At County boundary | None | +23
Winkler Canal | Approximately 700 feet upstream of the confluence with Caloosahatchee River | None | +7 | City of Fort Myers.
| Approximately 125 feet upstream of Evans Avenue | None | +14
Yellow Fever Creek | Approximately 1,000 feet downstream of Pine Island Road | None | +7 | Lee County (Unincorporated Areas), City of Cape Coral.
| Approximately 0.5 mile upstream of Littleton Road | None | +11
* National Geodetic Vertical Datum.
# Depth in feet above ground.
+ North American Vertical Datum.
ADDRESSES
City of Bonita Springs
Maps are available for inspection at the City of Bonita Springs Administration Office, 9101 Bonita Beach Road, Bonita Springs, Florida.
Send comments to The Honorable Jay Arend, Mayor of the City of Bonita Springs, 9101 Bonita Beach Road, Bonita Springs, Florida 34135.
City of Cape Coral
Maps are available for inspection at the City of Cape Coral Community Development Department, 1015 Cultural Park Boulevard, Cape Coral, Florida.
Send comments to The Honorable Eric Feichthaler, Mayor of the City of Cape Coral, P.O. Box 150027, Cape Coral, Florida 33915-0027.
City of Fort Myers
Maps are available for inspection at the City of Fort Myers Community Development Department, 1825 Hendry Street, Suite 101, Fort Myers, Florida.
Send comments to Mr. Anthony Shoemaker, Fort Myers City Manager, P.O. Box 2217, Fort Myers, Florida 33902.
Town of Fort Myers Beach
Maps are available for inspection at the Town of Fort Myers Beach Council Chambers, 2523 Estero Boulevard, Fort Myers Beach, Florida.
Send comments to The Honorable Dennis Boback, Mayor of the Town of Fort Myers Beach, 2523 Estero Boulevard, Fort Myers Beach, Florida 33931.
City of Sanibel
Maps are available for inspection at the Sanibel City Hall, Planning Department, 800 Dunlop Road, Sanibel, Florida.
Send comments to The Honorable Carla Johnston, Mayor of the City of Sanibel, 800 Dunlop Road, Sanibel, Florida 33957.
Lee County (Unincorporated Areas)
Maps are available for inspection at the Lee County Community Development Department, 1500 Monroe Street, 2nd Floor, Fort Myers, Florida.
Send comments to Ms. Tammy Hall, Chairperson for the Lee County Board of Commissioners, P.O. Box 398, Fort Myers, Florida 33902-0398.
Burke County, North Carolina and Incorporated Areas
Dye Branch | At the confluence with McGalliard Creek | None | +1,078 | Burke County (Unincorporated Areas), Town of Valdese.
| Approximately 655 feet upstream of Praley Street | None | +1,193
Sandy Run | Approximately 1.7 miles upstream of the confluence with Hunting Creek | None | +1,113 | Burke County (Unincorporated Areas).
| Approximately 2.4 miles upstream of the confluence with Hunting Creek | None | +1,156
* National Geodetic Vertical Datum.
# Depth in feet above ground.
+ North American Vertical Datum.
ADDRESSES
Burke County (Unincorporated Areas)
Maps are available for inspection at the Burke County Planning and Development Department, 110 North Green Street, Morganton, North Carolina.
Send comments to Mr. Ron Lewis, Burke County Manager, P.O. Box 219, Morganton, North Carolina 28680.
Town of Valdese
Maps are available for inspection at the Valdese Town Hall, 121 Faet Street, Valdese, North Carolina.
Send comments to The Honorable James Hatley, Mayor of the Town of Valdese, P.O. Box 339, Valdese, North Carolina 28690.
Catawba County, North Carolina and Incorporated Areas
Cline Creek Tributary 2 | At the confluence with Cline Creek | None | +898 | Catawba County (Unincorporated Areas), City of Conover.
| Approximately 1,300 feet upstream of I-40 | None | +911
Dellinger Creek | At the confluence with Elk Shoal Creek | +850 | +851 | Catawba County (Unincorporated Areas).
| Approximately 725 feet upstream of Rest Home Road | None | +960
Elk Shoal Creek | Approximately 2,750 feet upstream of the confluence with Catawba River | +848 | +849 | Catawba County (Unincorporated Areas).
| Approximately 2,000 feet upstream of Rest Home Road | +942 | +943
East Tributary | At the confluence with McLin Creek | None | +943 | Catawba County (Unincorporated Areas), City of Conover.
McLin Creek | Approximately 1,000 feet upstream of Keisler Road Southeast | None | +982
Geitner Branch | At the confluence with Henry Fork | +887 | +890 | Catawba County (Unincorporated Areas), City of Hickory.
| Approximately 1,900 feet upstream of 7th Avenue Southwest | None | +1,080
Long Creek | At the confluence with McLin Creek | +861 | +860 | Catawba County (Unincorporated Areas), City of Claremont, City of Conover.
| Approximately 1,400 feet upstream of Railroad | None | +988
Mull Creek | Approximately 1,000 feet upstream of the confluence with Lyle Creek | +820 | +819 | Catawba County (Unincorporated Areas), City of Claremont, City of Conover.
| Approximately 500 feet upstream of 9th Avenue Northeast | None | +1,002
* National Geodetic Vertical Datum.
# Depth in feet above ground.
+ North American Vertical Datum.
ADDRESSES
Catawba County (Unincorporated Areas)
Maps are available for inspection at the Catawba County Planning and Zoning Department, 100 A Southwest Boulevard, Newton, North Carolina.
Send comments to Mr. Tom Lundy, Catawba County Manager, P.O. Box 389, Catawba, North Carolina 28658.
City of Claremont
Maps are available for inspection at the City of Claremont Planning Department, 3288 East Main Street, Claremont, North Carolina.
Send comments to The Honorable Glenn A. Morrison, Mayor of the City of Claremont, 3288 East Main Street, Claremont, North Carolina 28610.
City of Conover
Maps are available for inspection at the Conover City Hall, 101 First Street East, Conover, North Carolina.
Send comments to The Honorable Bruce Eckard, Mayor of the City of Conover, P.O. Box 549, Conover, North Carolina 28613.

(Catalog of Federal Domestic Assistance No. 83.100, “Flood Insurance.”)

Dated: December 13, 2006.
David I. Maurstad,
Director, Mitigation Division, Federal Emergency Management Agency, Department of Homeland Security.

[FR Doc. E6-21681 Filed 12-19-06; 8:45 am]

BILLING CODE 9110-12-P